FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes the modification of a system of records, BGFRS-40, entitled “FRB—Board Subscription Services.” BGFRS-40 maintains subscription-related information regarding individuals who subscribe to Board publications.

DATES: Comments must be received on or before July 18, 2019.

This modified system of records will become effective July 18, 2019, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-40; FRB-Board Subscription Services, by any of the following methods:

• Agency Website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons, or to remove sensitive personally identifiable information. Public comments may also be viewed electronically or in paper form in Room 146, 1709 New York Avenue NW, Washington, DC 20006, between 9:00 a.m. and 5:00 p.m. on weekdays.

FOR FURTHER INFORMATION CONTACT: David B. Husband, Senior Attorney, (202) 530-6270, or david.b.husband@frb.gov; Legal Division, Board of Governors of the Federal Reserve System, 20th Street and Constitution Avenue NW, Washington, DC 20551.

SUPPLEMENTARY INFORMATION: The main publication that the Board provides is the Federal Reserve Regulatory Service (FRRS), which is a compilation of the statutes administered by the Board along with regulations, interpretations, policy statements, rulings, and opinions issued by the Board and its staff. The FRRS also includes select regulations issued by other agencies that are relevant to the Board's responsibilities. The Board also provides subscriptions to other publications such as general publications, reports to Congress, and economic research and data.

The Board contracts the FRRS subscription services to a vendor who processes subscriptions purchased on the FRRS website. Going forward, to accommodate subscriber demand for an offline payment option, the vendor will also process offline check payments for FRRS subscriptions. The Board will continue to operate the subscription services for the other publications (e.g., the general publications). Accordingly, the Board is updating the categories of records in the system and updating the history field to reflect the earlier publication of this SORN.

The Board is also making a technical correction to the routine uses for the system and replacing two BGFRS-40 system-specific uses that reflect OMB breach notification related uses with the corresponding Board General Routine Uses. This change is necessary because the Board published BGFRS-40 with the OMB breach notification uses before amending the “General Routine Uses of Board Systems of Records,” to incorporate those same OMB breach notification uses. See 83 FR 43872, August 28, 2018, available at https://www.govinfo.gov/content/pkg/FR-2018-08-28/pdf/2018-18627.pdf. Therefore, the Board is replacing the BGFRS-40 system-specific routine use (1) with General Routine Use I and the BGFRS-40 system-specific routine use (2) with General Routine Use J.

SYSTEM NAME AND NUMBER

BGFRS-40, “FRB—Board Subscription Services”

SECURITY CLASSIFICATION:

Unclassified.

SYSTEM LOCATION:

The vendor maintains FRRS subscription materials in paper and electronic form. The vendor is located at 101 Fry Drive, Mechanicsburg, PA 17055. The Board maintains historical FRRS subscription records and new FRRS records created and transmitted by the vendor to the Board (such as the monthly call reports), along with the subscription information for other Board publications. Paper records are stored in file folders and electronic records are stored on the Board's network. Records are maintained at the Board's central offices located at: Board of Governors of the Federal Reserve System, 20th Street and Constitution Avenue NW, Washington, DC 20551.

SYSTEM MANAGER(S):

Both managers are located at the Board's central offices in Washington, DC. The manager for the FRRS is Mike Budzinski, Manager, Editing, Office of Board Members, (202) 452-3262, mike.w.budzinski@frb.gov. For all other Board publications and for historical records stored at the Board, the manager is Gladys Parran, Manager, Printing & Fulfillment, Office of Board Members, (202) 736-5520, gladys.parran@frb.gov.

AUTHORITY FOR MAINTENANCE OF THE SYSTEM:

12 U.S.C. 244.

PURPOSE(S) OF THE SYSTEM:

The Board maintains these records to allow individuals to subscribe to Board publications. The main publication the Board provides is the Federal Reserve Regulatory Service (FRRS), a publication that compiles the statutes administered by the Board along with regulations, interpretations, policy statements, rulings, and opinions issued by the Board and its staff as well as select regulations issued by other agencies that are relevant to the Board's responsibilities. The Board also makes available other publications such as general publications, reports to Congress, and economic research and data.

CATEGORIES OF INDIVIDUALS COVERED BY THE SYSTEM:

Persons who subscribe to the FRRS or create an account for the purpose of subscribing to the FRRS and persons who request to subscribe to other available Board publications.

CATEGORIES OF RECORDS IN THE SYSTEM:

The Board Subscription Services system covers records related to the ordering and fulfillment of orders for the FRRS and other Board publications, such as economic research and data, general publications, and reports to Congress. The information collected for all publications (including the FRRS) includes the subscriber's name, company name or affiliation (if applicable), shipping address, order type, email address, and phone number. For Board publications other than the FRRS, the Board also collects the payment type (check, money order, credit card) and relevant payment information.

For the FRRS, the vendor collects the check payment if the order is by check. In addition, subscriptions for the FRRS also include the FRRS account information (log-in and password information), the billing address, order history, and fulfillment information (shipping and delivery instructions). The Board's vendor provides the Board with a monthly report on FRRS subscriptions. The monthly report records FRRS subscription revenue and selected subscriber and fulfillment information of current FRRS subscribers, including the individual subscriber's name, company name (if applicable), email address, and order type. The Board retains historical FRRS subscription and payment information from the Board's operation of the FRRS subscription service for the appropriate six-year record retention period.

RECORD SOURCE CATEGORIES:

The subscriber to the publication or the FRRS account holder provides the relevant information.

ROUTINE USES OF RECORDS MAINTAINED IN THE SYSTEM, INCLUDING CATEGORIES OF USERS AND PURPOSES OF SUCH USES:

General routine uses, A, C, D, G, I, and J apply to this system. These general routine uses are located at https://www.federalreserve.gov/files/SORN-page-general-routine-uses-of-board-systems-of-records.pdf and are published in the Federal Register at 83 FR 43872 (August 28, 2018) at 43873-74.

POLICIES AND PRACTICES FOR STORAGE OF RECORDS:

Paper records in this system are stored in file folders with access limited to staff with a need to know. Electronic records are stored on a secure server.

POLICIES AND PRACTICES FOR RETRIEVAL OF RECORDS:

Paper and electronic records can be retrieved by name or other identifying aspects.

POLICIES AND PRACTICES FOR RETENTION AND DISPOSAL OF RECORDS:

The retention period for the records in this system is six years. Records will be disposed of at the end of their retention periods, subject to an annual close-out.

ADMINISTRATIVE, TECHNICAL, AND PHYSICAL SAFEGUARDS:

Board and vendor staff are restricted to the data that is required in the performances of their duties. This is accomplished through user roles, which provide differential access levels to users based on their official duties and need-to-know. Only Board or vendor staff whose official duties require such access may view the subscription and fulfillment records. Electronic records are password protected and paper records are stored in locked file cabinets.

Only select Board and vendor staff have access to the FRRS subscriber and fulfillment information provided in the monthly FRRS vendor-provided report. Authorized Board staff access the monthly FRRS report through an encrypted connection.

RECORD ACCESS PROCEDURES:

The Privacy Act allows individuals the right to access records maintained about them in a Board system of records. Your request for access must: (1) Contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551.

You may also submit your Privacy Act request electronically through the Board's FOIA “Electronic Request Form” located here: https://www.federalreserve.gov/secure/forms/efoiaform.aspx.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) Provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

No exemptions are claimed for this system.

HISTORY:

This SORN was previously published at 83 FR 15569 (April 11, 2018).

Board of Governors of the Federal Reserve System, June 11, 2019.
Ann Misback,
Secretary of the Board.

[FR Doc. 2019-12837 Filed 6-17-19; 8:45 am]

BILLING CODE 6210-01-P